DEPARTMENT OF THE INTERIOR

Bureau of Land Management

[LLNM921200.L13200000.PP0000.19XL1109AF]

Notice of Availability of the Environmental Assessment for Evans McCurtain Federal Coal Lease-by-Application OKNM127509, Haskell and LeFlore Counties, OK, Notice of Public Hearing, and Request for Comment on Environmental Assessment, Maximum Economic Recovery, and Fair Market Value; Correction

AGENCY: Bureau of Land Management, Interior.

ACTION: Notice; correction.

SUMMARY: The Bureau of Land Management (BLM) published a notice in the Federal Register on December 27, 2018, announcing the availability of an environmental assessment (EA) and the public comment period and public hearing for a proposed Federal Coal Lease-by-Application (LBA). The notice published during the period of partial government shutdown and therefore the public hearing was canceled. This notice announces a corrected public comment period and public hearing date. In addition to the new comment period, the BLM will accept all comments submitted as directed during the prior comment period announced by the December 27, 2018, Federal Register notice.

FOR FURTHER INFORMATION CONTACT: April Crawley, BLM Natural Resource Specialist, BLM Oklahoma Field Office, 201 Stephenson Parkway, Norman, OK 73072; blm_nm_ok_coal@blm.gov; 405-579-7171. Persons who use a telecommunications device for the deaf (TDD) may call the Federal Relay Service (FRS) at 1-800-877-8339 to contact the above individual during normal business hours. The FRS is available 24 hours a day, 7 days a week, to leave a message or question with the above individuals. You will receive a reply during normal business hours.

SUPPLEMENTARY INFORMATION:

Correction

In the Federal Register notice published on December 27, 2018 (83 FR 66743), in the second column, correct the Dates caption to read:

DATES: The public hearing will be held on Thursday, May 30, 2019, from 5 p.m.-7 p.m. Written comments should be received no later than June 10, 2019.

In the second column, correct the first sentence of the Addresses caption to read:

ADDRESSES: The public hearing will be held at McCurtain City Hall, 308 Main Street, McCurtain, OK 74944.

In the second column of page 66744, correct the first sentence of the fifth paragraph to read:

Please send written comments on the LBA EA, MER, and FMV to April Crawley at the address listed in the ADDRESSES section in the notice or through ePlanning, as described above, prior to close of business June 10, 2019.

Timothy R. Spisak,
BLM New Mexico State Director.

[FR Doc. 2019-08771 Filed 5-9-19; 8:45 am]

BILLING CODE 4310-FB-P